DEPARTMENT OF ENERGY

Federal Energy Regulatory Commission

[Project No. P-2082-027]

Klamath Hydroelectric Project; Notice of Meetings

December 10, 2004.

Commission staff is scheduled to meet with representatives of the Klamath, Hoopa Valley, and Yurok Tribes regarding the Klamath Hydroelectric Project relicensing. Meetings will be held with those tribes at the locations and times listed below:

Klamath Tribes,

Klamath Tribes Administration Building,

501 Chiloquin Boulevard,

Chiloquin, OR,

January 11, 2005, 10 a.m. (PST).

Hoopa Valley Tribe,

Tribal Council Chambers,

Hoopa Valley Tribe Neighborhood Facilities,

Highway 96,

Hoopa, California,

January 13, 2005, 9 a.m. (PST).

Yurok Tribe,

190 Klamath Boulevard,

Klamath, California,

January 14, 2005, 10 a.m. (PST).

Members of the public and intervenors in the referenced proceedings may attend these meetings; however, participation will be limited to tribal representatives and the Commission representatives. If the Tribes decide to disclose information about a specific location which could create a risk or harm to an archeological site or Native American cultural resource, the public will be excused for that portion of the meeting when such information is disclosed.¹ If you plan to attend any of these meetings, please contact John Mudre at the Federal Energy Regulatory Commission at 202-502-8902 or john.mudre@ferc.gov. The meetings will be transcribed by a court reporter, and public transcripts will be made available by the Commission following the meetings.

¹ Protection from public disclosure involving this kind of specific information is based upon 18 CFR 4.32(b)(3)(ii) of the Commission's regulations implementing the Federal Power Act.

Magalie R. Salas,
Secretary.

[FR Doc. E4-3693 Filed 12-16-04; 8:45 am]

BILLING CODE 6717-01-P